DEPARTMENT OF COMMERCE

National Oceanic and Atmospheric Administration

50 CFR Part 216

[Docket No. 240415-0108]

RIN 0648-BK65

Proposed Rule To Modify the Duration of Certain Permits and Letters of Confirmation Under the Marine Mammal Protection Act; Extension of Public Comment Period

AGENCY: National Marine Fisheries Service (NMFS), National Oceanic and Atmospheric Administration (NOAA), Commerce.

ACTION: Proposed rule; extension of public comment period.

SUMMARY: NMFS announces the extension of the public comment period on our May 3, 2024, proposed rule to modify the regulations for Marine Mammal Protection Act (MMPA) section 104 permits, including scientific research, enhancement, photography, and public display permits and Letters of Confirmation (LOCs). We published our proposed rule with a 30-day public comment period. Today we extend the public comment period by 15 days.

DATES: The deadline for receipt of comments is extended from June 3, 2024, until June 18, 2024.

ADDRESSES: A plain language summary of this proposed rule is available at https://www.regulations.gov/docket/NOAA-NMFS-2024-0054. You may submit comments on this document, identified by NOAA-NMFS-2024-0054, by any of the following methods:

• Electronic Submission: Submit all electronic public comments via the Federal e-Rulemaking Portal. Visit https://www.regulations.gov and type NOAA-NMFS-2024-0054 in the Search box. Click on the “Comment” icon, complete the required fields, and enter or attach your comments.

• Mail: Submit written comments to Permits and Conservation Division, Office of Protected Resources, NMFS, 1315 East-West Highway, Room 13705, Silver Spring, MD 20910; ATTN: Jolie Harrison, Chief, Permits and Conservation Division.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Sara Young or Carrie Hubard, Office of Protected Resources, NMFS, (301) 427-8401.

SUPPLEMENTARY INFORMATION:

Background

On May 3, 2024, NMFS published a proposed rule to modify the regulations for MMPA section 104 permits, including scientific research, LOCs with a 30-day public comment period. NMFS received a request from the Animal Welfare Institute to extend the public comment period by 60 days to maximize public input on the proposed rule. NMFS considered the request and concluded that a 15-day extension should allow sufficient time for responders to submit public comments without significantly delaying the rulemaking process. We are therefore extending the close of the public comment period from June 3, 2024, to June 18, 2024. This extension provides a total of 45 days for public input on the proposed rule. All comments and information submitted previously regarding the proposed rule will be fully considered during the development of the final rule, if promulgated, and do not need to be resubmitted.

Dated: May 28, 2024.
Samuel D. Rauch III,
Deputy Assistant Administrator for Regulatory Programs, National Marine Fisheries Service.

[FR Doc. 2024-12053 Filed 5-31-24; 8:45 am]

BILLING CODE 3510-22-P